COMMISSION ON CIVIL RIGHTS

Agenda and Notice of Public Meeting of the North Dakota Advisory Committee

AGENCY: Commission on Civil Rights.

ACTION: Announcement of meeting.

SUMMARY: Notice is hereby given, pursuant to the provisions of the rules and regulations of the U.S. Commission on Civil Rights (Commission), and the Federal Advisory Committee Act (FACA), that a briefing of the North Dakota Advisory Committee to the Commission will convene on Wednesday, June 19, 2019 at 12:00 p.m. (CDT) in the Stern Board Room of the Dakota Medical Foundation, 4141 28th Avenue, Fargo, ND 58104.The purpose of the briefing is to hear from advocates and public officials regarding hate crimes in North Dakota.

DATES: Wednesday, June 19, 2019, at 12:00 p.m. (CDT).

ADDRESSES: Stern Board Room, Dakota Medical Foundation, 4141 28th Avenue, Fargo, ND 58104.

Public Call Information: Dial: 1-800-667-5617, Conference ID: 5569765.

FOR FURTHER INFORMATION CONTACT: Evelyn Bohor, at ebohor@usccr.gov or by phone at 303-866-1040.

SUPPLEMENTARY INFORMATION: Members of the public may also listen to the discussion through the above listed toll free number. As well as attending in person, any interested member of the public may call the above listed number and listen to the meeting. An open comment period will be provided to allow members of the public to make a statement as time allows. The conference call operator will ask callers to identify themselves, the organization they are affiliated with (if any), and an email address prior to placing callers into the conference room. Callers can expect to incur regular charges for calls they initiate over wireless lines, according to their wireless plan. The Commission will not refund any incurred charges. Callers will incur no charge for calls they initiate over land-line connections to the toll-free telephone number. Persons with hearing impairments may also follow the proceedings by first calling the Federal Relay Service at 1-800-877-8339 and providing the Service with the conference call number and conference ID number.

Time will be set aside at the at the conclusion of the briefing so that members of the public may address the Committee after the formal presentations have been completed. Persons interested in the issue are also invited to submit written comments; the comments must be received in the regional office by Friday, July 19, 2019. Written comments may be mailed to the Rocky Mountain Regional Office, U.S. Commission on Civil Rights, 1961 Stout Street, Denver, CO 80294, faxed to (303) 866-1050, or emailed to Evelyn Bohor at ero@usccr.gov. Persons who desire additional information may contact the Rocky Mountain Regional Office at (303) 866-1040. Persons who plan to attend the briefing and require other accommodations, please contact Evelyn Bohor at ebohor@usccr.gov at the Rocky Mountain Regional Office at least ten (10) working days before the scheduled date of the meeting.

Records and documents discussed during the meeting will be available for public viewing as they become available at https://www.facadatabase.gov/FACA/FACAPublicViewCommitteeDetails?id=a10t0000001gzl9AAA and clicking on the “Meeting Details” and “Documents” links. Records generated from this meeting may also be inspected and reproduced at the Western Regional Office, as they become available, both before and after the meeting. Persons interested in the work of this advisory committee are advised to go to the Commission's website, www.usccr.gov, or to contact the Rocky Mountain Regional Office at the above phone number, email or street address.

Agenda

Wednesday, June 19, 2019, at 12:00 p.m. (CDT)

I. Welcome and Introductions

II. Briefing on Hate Crimes

IV. Other Business

IV. Open Comment

IV. Adjournment

Dated: May 29, 2019.
David Mussatt,
Supervisory Chief, Regional Programs Unit.

[FR Doc. 2019-11482 Filed 5-31-19; 8:45 am]

BILLING CODE 6335-01-P